DEPARTMENT OF TRANSPORTATION

Maritime Administration

[Docket No. DOT-MARAD 2015 0093]

Agency Requests for Comments of a Previously Approved Information Collection: Maritime Administration Service Obligation Compliance Annual Report

ACTION: Notice and request for comments.

SUMMARY: In compliance with the Paperwork Reduction Act of 1955 (44 U.S.C. 3501 et seq.), this notice announces that the Information Collection Request (ICR) abstracted below is being forwarded to the Office of Management and Budget (OMB) for review and comments. A Federal Register Notice with a 60-day comment period soliciting comments on the following information was published on April 7, 2015 (Federal Register 18706, Vol. 80, No. 66).

DATES: Comments must be submitted on or before August 27, 2015.

FOR FURTHER INFORMATION CONTACT: Danielle Bennett, 202-366-5296, Office of Maritime Labor and Training, Maritime Administration, 1200 New Jersey Avenue SE., Washington, DC 20590.

SUPPLEMENTARY INFORMATION:

Title: Maritime Administration Service Obligation Compliance Annual Report

OMB Control Number: 2133-0509.

Form Numbers: MA-930.

Type of Request: Renewal of a Previously Approved Information Collection.

Abstract: 46 U.S.C. 51306 and 46 U.S.C. 51509 imposes a service obligation on every graduate of the U.S. Merchant Marine Academy and every State Maritime Academy Student Incentive Payment program graduate. This mandatory service obligation is for the Federal financial assistance the graduate received as a student. The obligation consists of (1) maintaining a U.S. Coast Guard merchant mariner credential with an officer endorsement; (2) serving as a commissioned officer in the U.S. Naval Reserve, the U.S. Coast Guard Reserve or any other reserve unit of an armed force of the United States following graduation from an academy (3) serving as a merchant marine officer on U.S.-flag vessels or as a commissioned officer on active duty in an armed or uniformed force of the United States, National Oceanic and Atmospheric Administration (NOAA) Corps, Public Health Service (PHS) Corps, or other MARAD approved service; and (4) reporting annually on their compliance with their service obligation after graduation for a minimum of seven (7) years after graduation.

Affected Public: Graduates of the U.S. Merchant Marine Academy and every State Maritime Academy Student Incentive Payment program graduate.

Form(s): MA-930.

Estimated Number of Respondents: 2100.

Estimated Number of Responses: 2100.

Annual Estimated Total Annual Burden: 700.

ADDRESSES: Send comments regarding the burden estimate, including suggestions for reducing the burden, to the office of Management and Budget, Attention: Desk Officer for the Office of the Secretary of Transportation, 725 17th Street NW., Washington, DC 20503. Comments are invited on: Whether the proposed collection of information is necessary for the proper performance of the functions of the Department, including whether the information will have practical utility; (b) the accuracy of the Department's estimated burden of the proposed information collection; and ways to minimize the burden of the collection of information on respondents, including the use of automated collection techniques or other forms of technology.

Authority: The Paperwork Reduction Act of 1995; 44 U.S.C. chapter 35, as amended; and 49 CFR 1:93.

By Order of the Maritime Administrator.
Dated: July 21, 2015.
T. Mitch Hudson, Jr.,
Secretary, Maritime Administration.

[FR Doc. 2015-18506 Filed 7-27-15; 8:45 am]

BILLING CODE 4910-81-P